DEPARTMENT OF LABOR

Agency Information Collection Activities; Submission for OMB Review; Comment Request; Rock Burst Control Plan (Pertains to Underground Metal/Nonmetal Mines)

ACTION: Notice of availability; request for comments.

SUMMARY: The Department of Labor (DOL) is submitting this Mine Safety and Health Administration (MSHA)-sponsored information collection request (ICR) to the Office of Management and Budget (OMB) for review and approval in accordance with the Paperwork Reduction Act of 1995 (PRA). Public comments on the ICR are invited.

DATES: The OMB will consider all written comments that the agency receives on or before January 25, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Michael Howell by telephone at 202-693-6782, or by email at DOL_PRA_PUBLIC@dol.gov.

SUPPLEMENTARY INFORMATION: Section 103(h) of the Federal Mine Safety and Health Act of 1977 (Mine Act), as amended 30 U.S.C. 813(h), authorizes the Mine Safety and Health Administration (MSHA) to collect information necessary to carry out its duty in protecting the safety and health of miners. Further, section 101(a) of the Mine Act, 30 U.S.C. 811, authorizes the Secretary of Labor to develop, promulgate, and revise as may be appropriate, improved mandatory health or safety standards for the protection of life and prevention of injuries in coal and metal and nonmetal mines.

30 CFR 57.3461 requires operators of underground metal and nonmetal mines which have experienced a rock burst to report to the nearest MSHA office of each rock burst within 24 hours. These mine operators are also required to develop and implement a rock burst control plan within 90 days after a rock burst has been experienced. Plans are required to include: (1) mining and operating procedures designed to reduce the occurrence of rock bursts; (2) monitoring procedures where detection methods are used; and (3) other measures to minimize exposure of persons to areas prone to rock bursts. Plans are also required to be updated as conditions warrant and are to be made available to MSHA inspectors and to miners or their representatives. The standard does not require that all underground metal and nonmetal mines develop these preventative measures, but it does require that all mines with a rock burst history develop and implement a rock burst control plan.

Rock bursts pose a serious threat to the safety of miners in the area affected by the burst. These bursts may reasonably be expected to result in the entrapment of miners, serious physical harm, and death. Recent mining technology utilizes scientific methods of monitoring rock stresses which allows for the prediction of an oncoming burst. These predictions can be used by the mine operator to move miners to safer locations and to identify areas which need relief drilling. For additional substantive information about this ICR, see the related notice published in the Federal Register on July 24, 2023 (88 FR 47524).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-MSHA.

Title of Collection: Rock Burst Control Plan (Pertains to Underground Metal/Nonmetal Mines).

OMB Control Number: 1219-0097.

Affected Public: Businesses or other for-profits.

Number of Respondents: 1.

Frequency: On occasion.

Number of Responses: 1.

Annual Burden Hours: 12 hours.

Total Estimated Annual Other Costs Burden: $0.

(Authority: 44 U.S.C. 3507(a)(1)(D))

Michael Howell,
Senior Paperwork Reduction Act Analyst.

[FR Doc. 2023-28353 Filed 12-22-23; 8:45 am]

BILLING CODE 4510-43-P